DEPARTMENT OF HEALTH AND HUMAN SERVICES

Centers for Disease Control and Prevention

[30Day-15-0621]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National Youth Tobacco Surveys (NYTS) 2015-2017—Revision—National Center for Chronic Disease Prevention and Health Promotion (NCCDPHP), Centers for Disease Control and Prevention (CDC).

Background and Brief Description

The Centers for Disease Control and Prevention (CDC) has periodically collected information about tobacco use among adolescents since 2004 (National Youth Tobacco Survey (NYTS) 2004, 2006, 2009, 2011, 2012, 2013, and 2014; OMB no. 0920-0621, exp. 1/31/2015). At present, the NYTS is the most comprehensive source of nationally representative tobacco data among students in grades 9-12, and the only source of such data for students in grades 6-8. The NYTS has provided national estimates of tobacco use behaviors, information about exposure to pro- and anti-tobacco influences, and information about racial and ethnic disparities in tobacco-related topics. Information collected through the NYTS is used to identify trends over time, to inform the development of tobacco cessation programs for youth, and to evaluate the effectiveness of existing interventions and programs.

CDC is requesting OMB approval to conduct additional cycles of the NYTS in the spring of 2015, 2016, and 2017. The survey will be conducted among nationally representative samples of students attending public and private schools in grades 6-12, and will be administered to students as an optically scannable booklet of multiple-choice questions. Information supporting the NYTS also will be collected from state-, district-, and school-level administrators and teachers. During the 2015-2017 timeframe, a number of changes will be incorporated that reflect CDC's ongoing collaboration with FDA and the need to measure progress toward meeting strategic goals established by the Family Smoking Prevention and Tobacco Control Act. The 2015 survey will examine the following topics: Use of cigarettes, smokeless tobacco, cigars, pipes, bidis, snus, hookahs, electronic vapor products, and dissolvable tobacco products; knowledge and attitudes; media and advertising; access to tobacco products; secondhand smoke exposure; and cessation. Information collection will occur annually.

Results of the NYTS will continue to be used for public health program planning and evaluation. Information collected through the NYTS is also expected to provide multiple measures and data for monitoring progress on multiple tobacco-related objectives for Healthy People 2020.

OMB approval is requested for three years. Participation is voluntary and the total estimated annualized burden hours are 15,504. There are no costs to respondents other than their time.

Estimated Annualized Burden Hours
Type of respondent | Form name | Number of respondents | Number of responses per respondent | Average burden per response (in hours)
State Administrators | State-level Recruitment Script for the NYTS | 35 | 1 | 30/60
District Administrators | District-level Recruitment Script for the NYTS | 150 | 1 | 30/60
School Administrators | School-level Recruitment Script for the NYTTS | 220 | 1 | 30/60
Teachers | Data Collection Checklist for the NYTS | 973 | 1 | 15/60
Students | National Youth Tobacco Survey | 20,077 | 1 | 45/60

LeRoy A. Richardson,
Chief, Information Collection Review Office, Office of Scientific Integrity, Office of the Associate Director for Science, Office of the Director, Centers for Disease Control and Prevention.

[FR Doc. 2014-29218 Filed 12-12-14; 8:45 am]

BILLING CODE 4163-18-P